DEPARTMENT OF LABOR

Employment and Training Administration

Availability of Funds and Solicitation for Grant Applications (SGA) for the Purpose of Training Child Care Providers

AGENCY: Employment and Training Administration, Department of Labor.

This notice contains all of the necessary information and forms needed to apply for grant funding.

SUMMARY: The Department of Labor, Employment and Training Administration, Bureau of Apprenticeship and Training, invites proposals for up to ten (10) awards. These awards will be for the implementation of the Quality Child Care Initiative. It will assist with the initiation of building a national system for the education and training of professional child care providers and expand the National Apprenticeship System by incorporating diversification of occupational entities through development of new and innovative strategies for increasing the participation among the child care industry.

DATES: Applications will be accepted commencing January 9, 2002. The closing date for receipt of applications is March 11, 2002, at 4 P.M., (Eastern Time ) at the address below.

ADDRESSES: Applications shall be mailed to the U.S. Department of Labor, Employment and Training Administration, Division of Federal Assistance, Attention: Mamie D. Williams, Reference: SGA/DFA 02-103, 200 Constitution Avenue, NW., Room S-4203, Washington, DC 20210.

FOR FURTHER INFORMATION CONTACT: Questions should be faxed to Mamie D. Williams, Grants Management Specialist, Division of Federal Assistance, Fax (202) 693-2879. This is not a toll-free number. All inquiries should include the SGA number (SGA/DFA 02-103) and a contact name, fax and phone number. This solicitation will also be published on the Internet on the Employment and Training Administration's Homepage at http://www.doleta.gov. Award notifications will also be published on this Homepage.

Quality Child Care Initiative Solicitation

Part I. Purpose

To invite proposals for providing a credentialed career path for development of professional child care provider through the utilization of the National Registered Apprenticeship System; which will reduce turnover, increase wages for providers, provide a more stable environment for children and lower the concern of parents.

Part II. Background

The Child Care Industry is in trouble. A 1989 study by the national Center of Early Childhood Workforce found that the quality of services provided by most day care centers was rated as Abarely adequate,” and a more recent four-State study by the University of Colorado at Denver found that only 14 percent of child care centers were rated as good quality. In addition, child care workers are faced with relatively low wages, inadequate benefit coverage, and high job turnover.

On October 23, 1997, former President and Mrs. Clinton hosted the White House Conference on child care—to focus the Nation's attention on the importance of addressing the need for safe affordable, available, quality child care. Integral to providing the “right” care is the quality of the child care worker.

Quality child care service goes hand in glove with having an adequate supply of competent, professional child care providers. This requires enhanced training opportunities and a redefinition of the basic concept of what constitutes a child care provider. A national focus on accreditation demands that practitioners have access to education and training that will promote professional development. As the field of early care and education becomes established as a profession, practitioners are required to master basic knowledge, skills and core competencies of early childhood development. As professionals, practitioners must develop practical knowledge that will enable them to apply new approaches and strategies for working effectively with young children.

Part III. Statement of Work

As our society continues to evolve and demands are placed on parents to secure full time job/careers, the need for safe, affordable, available, quality child care has been brought to the forefront. Utilization of the National Apprenticeship System can provide needed training for early care and education practitioners. High quality training has the potential to change the culture of the child care industry from one dominated by low pay and high turnover to one of respected professional service. No longer would child care be equated to baby-sitting.

The apprenticeship model validates the integral part that child care plays in the economy, as working families rely on dependable, accessible care for their children. As families move from welfare to work, additional sources of training child care providers are in demand.

Note: All successful applicants are expected to provide information relative to the projected number of participants (i.e., employers, apprentices and the diverse make-up of the participants) in order to assist the grantor in determining the amount of awards to be given.

The major tasks of this project will be, but not limited, to the following:

• System and capacity building by incorporating in a collaborative spirit organizations, agencies, employers, associations and higher education to develop a vision for implementation of an individual statewide sustainable infrastructure built upon successful registered apprenticeship and best practice models;

• From the above activity, establishment of an oversight body to provide direction and guidance to the vision, utilizing the services of an Apprenticeship and Training Representative;

• Utilization of an established curriculum or development of a curriculum based on developmentally appropriate inclusive practices for young children and an interactive adult education teaching approach that is effective for adult learners;

• Adoption of or establishment of a train-the-trainer system that will ensure the availability of knowledge, experienced, skilled instructors for the related instruction course work;

• Development of a process to promote career lattice for those graduates of the registered apprenticeship system (i.e., articulation into an Associates Degree or higher);

• Ensuring the inclusion of those with other nationally recognized credentials such as the Child Development Associate (CDA) through previous credit for documented prior experience;

• Demonstration of in-kind support from institutions involved in the process (i.e., time spent to facilitate and foster the process and/or free facilities to conduct related instruction);

• Development and implementation of a strategy or strategies to ensure inclusion of practitioners representing diversity of culture, ethnicity, gender and ability;

• Development of policies, procedures and formulas to ensure the consistency and integrity of system implementation and beyond. The system will be sustainable and ownership established, if the process is followed throughout the state;

Part IV. Eligible Applicants

Eligible Applicants: Those eligible to apply are as follows: States that have a State Apprenticeship Agency (SAA) , State Agencies designated by the Governor, Governor's Early Childhood Initiative, other State Agencies with responsibility for child care regulations or funding. Only one proposal will be accepted per State and for States without a SAA a letter from the Governor designating the agency must accompany the proposal. Those States who received Child Care Initiative awards in Round 1 (1999) and Round 2 (2000), are not eligible to compete for this procurement action.

Note: Except as specifically provided, DOL/ETA acceptance of a proposal and an award of federal funds to sponsor any program(s) does not provide a waiver of any grant requirement and/or procedures. For example, the OMB circulars require that an entity's procurement prodedures must require thall all procurement transaction must be conducted, as practical, to provide open and free competition. If a proposal identifies a specific entity to provide the services, the DOL/ETA's award does not provide the justification or basis to sole-source the procurement, i.e., avoid competition.

Note: Administrative Costs: Pursuant to 20 CFR 667.210(b), grantees are advised that there is a 10% limitation on administrative costs on funds administered under this grant. The Grant Officer may, however, approve additional administrative costs up to a maximum of 15% of the total award amount, if adequate justification is provided by the grantee at the time of the award. In no event, may administrative costs exceed 15% of the total award amount. The cost of administration shall include those disciplines enumerated in 20CFR 667.220(b) and (c).

Part V. Application Process

Application Submittal. Applicants must submit one (1) copy of their proposal with an A. original signature and two (2) additional copies of their proposal. The applications shall be divided into two distinct parts: Part I—which contains the Standard Form (SF) 424, “Application for Federal Assistance,” (Appendix A) and “Budget Information Sheet,” (Appendix B). All copies of the (SF) 424 MUST have original signatures of the legal entity applying for grant funding. Applicants shall indicate on the (SF) 424 the organization's IRS Status, if applicable. According to the Lobbying Disclosure Act of 1995, Section 18, an organization described in Section 501(c) 4 of the Internal Revenue Code of 1986 which engages in lobbying activities shall not be eligible for the receipt of federal funds constituting an award, grant, or loan. The Catalog of Federal Domestic Assistance number is 17.262. In addition, the budget shall include—on a separate page(s)—a detailed cost break-out of each line item on the Budget Information Sheet. Part II shall contain the program narrative that demonstrates the applicant's plan and capabilities in accordance with the evaluation criteria contained in this section. Applicants must describe their plan in light of each of the Evaluation Criteria. Applicants MUST limit the program narrative section to no more than 30 double-spaced pages, on single-sided numbered pages with the exception of the Executive Summary. The Executive Summary must be limited to no more than two single-spaced, single-sided pages. Note: The Executive Summary is not included in the 30 page limitation. A font size of at least twelve (12) pitch is required throughout on 8.5 × 11 inch paper with 1-inch margins. This includes any attachments. Letters of general support or recommendation for a proposal should NOT be submitted and will count against the page limits. Applications that fail to meet the page limitation requirement will not be considered.

Part VI. Late Applications

Any application received after the exact date and time specified for receipt at the office designed in this notice will not be considered, unless it is received before awards are made and it—(a) was sent by registered or certified mail not later than the fifth calendar day before the date specified for receipt of applications (e.g., an application submitted in response to a solicitation requiring receipt of applications by the 20th of the month must have been mailed/post marked by the 15th of that month); or (b) was sent by the U.S. Postal Service Express Mail Next Day Service to addresses not later than 5:00 P.M. at the place of mailing two working days prior to the date specified for receipt of applications. The term “working days” excludes weekends and federal holidays. The term “”post marked” means a printed, stamped or otherwise placed impression (exclusive of a postage meter machine impression) that is readily identifiable, without further action, as having been supplied or affixed on the date of mailing by an employee of the U.S. Postal Service.

Part VII. Hand Delivered Proposals

It is preferred that applications be mailed at least five days prior to the closing date. To be considered for funding, Hand-delivered applications must be received by 4:00 P.M., (Eastern Time), on the closing date at the specified address. TELEGRAPHED AND/FAXED APPLICATIONS WILL NOT BE HONORED. Failure to adhere to the above instructions will be a basis for a determination of nonresponsiveness. Overnight express mail from carriers other than the U.S. Postal Service will be considered hand-delivered applications and MUST BE RECEIVED by the above specified date and time.

Part VIII. Funding Availability and Period of Performance

The Department expects to makeup to 10 awards with a maximum total investment for these projects of $3.3 million. Grants will be awarded up to $325,000. The period of performance will be for 18 months from the date the grant is awarded.

Part IX. Review Process

A careful evaluation of applications will be made by a technical review panel who will evaluate the applications against the criteria listed below. The panel results are advisory are advisory in nature and not binding on the Grant Officer. The Government may elect to award the grant with or without discussions with the offeror. In situations without discussions, an award will be based on the offeror's signature on the (SF) 424, which constitutes a binding offer. Awards will be those in the best interest of the Government.

Evaluation Criteria

A. System and Capacity Building—The extent to which the offeror has delineated collaboration strategies to develop a vision and implementation plan for a statewide infrastructure utilizing the registered apprenticeship system of training and forecast of implementation. (25 points)

B. Sustainability—Plan for long term viability of the system after this funding ends. (15 points)

C. Curriculum—Delineation of utilization or development of curriculum based on developmentally appropriate inclusive practices for young children and an interactive adult educational component for effective adult learners and a forecast of implementation. (15 points)

D. Career Lattice—Describe the process for inclusion of participants with documented prior experience linked with substantial increases in compensation and next steps for apprenticeship graduates in the process (awarding of college credit and articulation with higher education). (20 points)

E. Diversity—Outline the strategy or strategies developed to ensure inclusion of participants representing diversity of culture, ethnicity, gender and ability (i.e., projected number of employers and apprentices) and a forecast of implementation. (15 points)

F. Consistency and Integrity—Delineation of the policies, procedures, and formulas developed to ensure consistency and integrity of the statewide system. (10 points)

The grants will be awarded based on applicant response to the above mentioned criteria and what is otherwise most advantageous to the Department.

Part X. Reporting Requirements

• Attendance to a post award orientation briefing, is tentatively scheduled to take place in Atlanta, Georgia, where BAT will reiterate and delineate the overall desired outcomes of the project;

• Detailed work plan, budget, and schedule within 30 days of grant award;

• Quarterly Status Reports within 30 days of quarters' end;

• Monthly cost vouchers;

• Final report on completed tasks, and specific recommendations for future grants for Child Care Initiatives, no later than 45 days following the end of the grant.

Signed in Washington, DC, this 3rd day of January, 2002.
James W. Stockton,
Grant Officer.

Appendix A: (SF) 424—Application Form

Appendix B: Budget Information Form

BILLING CODE 4510-30-P

[FR Doc. 02-495 Filed 1-8-02; 8:45 am]

BILLING CODE 4510-30-C